DEPARTMENT OF ENERGY

Federal Energy Regulatory Commission

[Docket No. RM10-13-000]

Credit Reforms in Organized Wholesale Electric Markets; Notice of Technical Conference

April 15, 2010.

Take notice that on May 11, 2010, the Commission staff will convene a technical conference to discuss issues related to the Commission's Notice of Proposed Rulemaking on Credit Reforms in Organized Wholesale Electric Markets.¹

¹ See 130 FERC ¶ 61,055 (2010). This workshop is being held in accordance with the Commission's Order Obtaining Guidance on Regulatory Requirements, 123 FERC ¶ 61,157 (2008).

The technical conference will be held from 9 a.m. to 12:30 p.m. (EDT), in the Commission Meeting Room at the Federal Energy Regulatory Commission, 888 First Street, NE., Washington, DC 20426. All those that are interested are invited to attend. The conference is free and no registration is necessary. Further notices with detailed information will be issued in advance of this conference.

A free Webcast of this event will be available through http://www.ferc.gov. Anyone with Internet access who desires to listen to this event can do so by navigating http://www.ferc.gov's Calendar of Events and locating this event in the calendar. The event will contain a link to its Webcast. The Capitol Connection provides technical support for free Webcasts and offers the option of listening via phone-bridge for a fee. If you have any questions, visit http://www.CapitolConnection.org or call 703-993-3100.

Commission conferences are accessible under section 508 of the Rehabilitation Act of 1973. For accessibility accommodations, please send an e-mail to accessibility@ferc.gov or call toll free 1-866-208-3372 (voice) or 202-208-1659 (TTY), or send a FAX to 202-208-2106 with the required accommodations. For more information on this conference, please contact:

Christina Hayes, Office of General Counsel—Energy Markets, Federal Energy Regulatory Commission, (202) 502-6194, christina.hayes@ferc.gov.

Scott Miller, Office of Energy Policy & Innovation, Federal Energy Regulatory Commission, (202) 502-8456, scott.miller@ferc.gov.

Kimberly D. Bose,
Secretary.

[FR Doc. 2010-11232 Filed 5-11-10; 8:45 am]

BILLING CODE 6717-01-P